ENVIRONMENTAL PROTECTION AGENCY

40 CFR Part 52

[NC-200429; FRL-7868-7]

Approval and Promulgation of Air Quality Implementation Plans; North Carolina Update to Materials Incorporated by Reference

AGENCY: Environmental Protection Agency (EPA).

ACTION: Notice of administrative change.

SUMMARY: EPA is publishing this action to provide the public with notice of the update to the North Carolina State Implementation Plan (SIP) compilation, which appears at 40 CFR 52.1770 (Subpart II). In particular, materials submitted by North Carolina that are incorporated by reference (IBR) into the North Carolina SIP are being updated to reflect EPA-approved revisions to North Carolina's SIP that have occurred since the last update. In this action EPA is also notifying the public of the correction of certain typographical errors in Table I of 40 CFR 52.1770(c).

DATES: This rule is effective February 18, 2005.

ADDRESSES: SIP materials which are incorporated by reference into 40 CFR part 52 are available for inspection at the following locations: Environmental Protection Agency, Region 4, 61 Forsyth Street, SW., Atlanta, GA 30303; the EPA, Air and Radiation Docket and Information Center, Air Docket (Mail Code 6102T), 1200 Pennsylvania Avenue, NW., Washington, DC 20460, and the National Archives and Records Administration. For information on the availability of this material at NARA, call 202-741-6030, or go to: http://www.archives.gov/federal_register/code_of_federal_regulations/ibr_locations.html.

FOR FURTHER INFORMATION CONTACT: Ms. Jane Spann at the above Region 4 address or at (404) 562-9029.

SUPPLEMENTARY INFORMATION: Each state has a SIP containing the control measures and strategies used to attain and maintain the national ambient air quality standards (NAAQS). The SIP is extensive, containing such elements as air pollution control regulations, emission inventories, monitoring networks, attainment demonstrations, and enforcement mechanisms.

Each state must formally adopt the control measures and strategies in the SIP after the public has had an opportunity to comment on them and then submit the SIP to EPA. Once these control measures and strategies are approved by EPA, after notice and comment, they are incorporated into the federally approved SIP and are identified in part 52 “Approval and Promulgation of Implementation Plans”, Title 40 of the Code of Federal Regulations (40 CFR part 52). The full text of the state regulation approved by EPA is not reproduced in its entirety in 40 CFR part 52, but is “incorporated by reference.” This means that EPA has approved a given state regulation with a specific effective date. The public is referred to the location of the full text version should they want to know which measures are contained in a given SIP. The information provided allows EPA and the public to monitor the extent to which a state implements a SIP to attain and maintain the NAAQS and to take enforcement action if necessary.

The SIP is a living document which the state can revise as necessary to address the unique air pollution problems in the state. Therefore, EPA from time to time must take action on SIP revisions containing new and/or revised regulations as being part of the SIP. On May 22, 1997, (62 FR 27968), EPA revised the procedures for incorporating by reference (IBR), into the Code of Federal Regulations, materials submitted by states in their EPA-approved SIP revisions. These changes revised the format for the identification of the SIP in 40 CFR part 52, stream-lined the mechanisms for announcing EPA approval of revisions to a SIP, and stream-lined the mechanisms for EPA's updating of the IBR information contained for each SIP in 40 CFR part 52. The revised procedures also called for EPA to maintain “SIP Compilations” that contain the federally-approved regulations and source specific permits submitted by each state agency. These SIP Compilations are contained in 3-ring binders and are updated primarily on an annual basis. Under the revised procedures, EPA is to periodically publish an informational document in the rules section of the Federal Register when updates are made to a SIP Compilation for a particular state. EPA's 1997 revised procedures were formally applied to North Carolina on May 20, 1999 (64 FR 27465).

This action represents EPA's publication of the North Carolina SIP Compilation update, appearing in 40 CFR part 52. In addition, notice is provided of the following typographical corrections to Table 1 of § 52.1770(c), as described below:

1. Correcting typographical errors listed in Table 1 of § 52.1770(c), as described below:

A. Where absent, the addition of Federal Register citations in the “EPA Approval Date” column.

B. Change in Federal Register citation to reflect the beginning page of the preamble as opposed to that of the regulatory text.

C. Change of punctuation within the section Titles.

D. Section 2D.0306 title is revised to read as “Emission Reduction Level-Warning Plan.”

E. Section 2D.0307 title is revised to read as “Emission Reduction Level-Emergency Plan.”

F. Section 2D.0405 State Effective Date is revised to read “05/01/99.”

G. Section 2D.0502 EPA Approval Date is revised to read “07/26/82.”

H. Section 2D.0519 title is revised to read as “Control of Nitrogen Dioxide and Nitrogen Oxides Emissions.”

I. Section 2D.0520 was repealed and replaced by new rules under Section .1900 “Open Burning,” Federal Register (62 FR 41277) dated July 01, 1997.

J. Section 2D.0535 title is revised to read as “Excess Emission Reporting and Malfunctions.”

K. Section 2D.0952 title is revised to read as “Petition for Alternative Controls for RACT.”

L. Section 2D.0953 removing the duplicate rule “Vapor Return Piping for Stage II Vapor Recovery.”

M. Section 2Q.0605 title is revised to read as “Final Action on Permit Applications.”

EPA has determined that today's action falls under the “good cause” exemption in the section 553(b)(3)(B) of the Administrative Procedure Act (APA) which, upon finding “good cause,” authorizes agencies to dispense with public participation and section 553(d)(3) which allows an agency to make an action effective immediately (thereby avoiding the 30-day delayed effective date otherwise provided for in the APA). Today's administrative action simply codifies provisions which are already in effect as a matter of law in Federal and approved State programs and corrects typographical errors appearing the Federal Register. Under section 553 of the APA, an agency may find good cause where procedures are “impractical, unnecessary, or contrary to the public interest.” Public comment for this administrative action is “unnecessary” and “contrary to the public interest” since the codification (and typographical corrections) only reflect existing law. Immediate notice of this action in the Federal Register benefits the public by providing the public notice of the updated North Carolina SIP Compilation and notice of typographical corrections to the North Carolina “Identification of Plan” portion of the Federal Register.

Statutory and Executive Order Reviews

A. General Requirements

Under Executive Order 12866 (58 FR 51735, October 4, 1993), this administrative action is not a “significant regulatory action” and is therefore not subject to review by the Office of Management and Budget. This action is not subject to Executive Order 13211, “Actions Concerning Regulations That Significantly Affect Energy Supply, Distribution, or Use” (66 FR 28355, May 22, 2001) because it is not a significant regulatory action under Executive Order 12866. Because the agency has made a “good cause” finding that this action is not subject to notice-and-comment requirements under the Administrative Procedure Act or any other statute as indicated in the Supplementary Information section above, it is not subject to the regulatory flexibility provisions of the Regulatory Flexibility Act (5 U.S.C 601 et seq.), or to sections 202 and 205 of the Unfunded Mandates Reform Act of 1995 (UMRA) (Pub. L. 104-4). In addition, this action does not significantly or uniquely affect small governments or impose a significant intergovernmental mandate, as described in sections 203 and 204 of UMRA. This administrative action also does not have a substantial direct effect on one or more Indian tribes, on the relationship between the Federal government and Indian tribes, or on the distribution of power and responsibilities between the Federal government and Indian tribes, as specified by Executive Order 13175 (65 FR 67249, November 9, 2000), nor will it have substantial direct effects on the States, on the relationship between the national government and the States, or on the distribution of power and responsibilities among the various levels of government, as specified in Executive Order 13132 (64 FR 43255, August 10, 1999). This administrative action also is not subject to Executive Order 13045 (62 FR 19885, April 23, 1997), because it is not economically significant. This administrative action does not involve technical standards; thus the requirements of section 12(d) of the National Technology Transfer and Advancement Act of 1995 (15 U.S.C. 272 note) do not apply. The administrative action also does not involve special consideration of environmental justice related issues as required by Executive Order 12898 (59 FR 7629, February 16, 1994). In this administrative action, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1998) by examining the takings implications of this administrative action in accordance with the “Attorney General's Supplemental Guidelines for the Evaluation of Risk and Avoidance of Unanticipated Takings” issued under the Executive Order. This administrative action does not impose an information collection burden under the Paperwork Reduction Act of 1995 (44 U.S.C. 3501 et seq.). EPA's compliance with these Statutes and Executive Orders for the underlying rules are discussed in previous actions taken on the State's rules.

B. Submission to Congress and the Comptroller General

The Congressional Review Act (CRA) (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. Today's administrative action simply codifies (and corrects) provisions which are already in effect as a matter of law in Federal and approved State programs. 5 U.S.C. 808(2). These announced actions were effective when EPA approved them through previous rulemaking actions. EPA will submit a report containing this action and other required information to the U.S. Senate, the U.S. House of Representatives, and the Comptroller General of the United States prior to publication of this action in the Federal Register. This update to North Carolina's SIP Compilation and correction of typographical errors is not a “major rule” as defined by 5 U.S.C. 804(2).

C. Petitions for Judicial Review

EPA has also determined that the provisions of section 307(b)(1) of the Clean Air Act pertaining to petitions for judicial review are not applicable to this action. This action is simply an announcement of prior rulemakings that have previously undergone notice and comment rulemaking. Prior EPA rulemaking actions for each individual component of the North Carolina SIP compilation previously afforded interested parties the opportunity to file a petition for judicial review in the United States Court of Appeals for the appropriate circuit within 60 days of such rulemaking action.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: January 24, 2005.
A. Stanley Meiburg,
Acting Regional Administrator, Region 4.

Chapter I, title 40, Code of Federal Regulations, is amended as follows:

PART 52—[AMENDED]

1. The authority for citation for part 52 continues to read as follows:

Authority: 42 U.S.C. 7401 et seq.

Subpart II—North Carolina

2. Section 52.1770 is amended by revising paragraph (b) and revising table 1 in paragraph (c) to read as follows:

§ 52.1770 Identification of plan.

* * * * *

(b) Incorporation by reference.

(1) Material listed in paragraph (c) of this section with an EPA approval date prior to December 30, 2004, for North Carolina (Table 1 of the North Carolina State Implementation Plan), January 1, 2003, for Forsyth County, North Carolina (Table 2 of the North Carolina State Implementation Plan) and January 1, 2003, for Mecklenburg County, North Carolina (Table 3 of the North Carolina State Implementation Plan), was approved for incorporation by reference by the Director of the Federal Register in accordance with 5 U.S.C. 552(a) and 1 CFR part 51. Material is incorporated as it exists on the date of the approval, and notice of any change in the material will be published in the Federal Register. Entries in paragraphs (c) of this section with EPA approval dates after December 30, 2004, for North Carolina (Table 1 of the December 30, 2004, for North Carolina State Implementation Plan), January 1, 2003, for Forsyth County, North Carolina (Table 2 of the North Carolina State Implementation Plan) and January 1, 2003, for Mecklenburg County, North Carolina, (Table 3 of the North Carolina State Implementation Plan) will be incorporated by reference in the next update to these SIP compilation notebooks.

(2) EPA Region 4 certifies that the rules/regulations provided by EPA in the SIP compilation at the addresses in paragraph (b)(3) of this section are an exact duplicate of the officially promulgated State rules/regulations which have been approved as part of the State implementation plan as of the dates referenced in paragraph (b)(1).

(3) Copies of the materials incorporated by reference may be inspected at the Region 4 EPA Office at 61 Forsyth Street, SW., Atlanta, GA 30303; the EPA, Air and Radiation Docket and Information Center, Air Docket (Mail Code 6102T), 1200 Pennsylvania Avenue, NW., Washington, DC 20460 and the National Archives and Records Administration. For information on the availability of this material at NARA, call 202-741-6030, or go to: http://www.archives.gov/federal_register/code_of_federal_regulations/ibr_locations.html.

(c) EPA approved regulations.

Table 1.—EPA Approved North Carolina Regulations
State citation | Title/subject | State effective date | EPA approval date | Explanation
Subchapter 2D Air Pollution Control Requirements
Section .0100 Definitions and References
Sect .0101 | Definitions | 01/15/98 | 11/10/99, 64 FR 61213
Sect .0103 | Copies of Referenced Federal Regulations | 12/01/92 | 08/15/94, 59 FR 41708
Sect .0104 | Incorporation by Reference | 01/15/98 | 11/10/99, 64 FR 61213
Sect .0105 | Mailing List | 07/01/02 | 09/17/03, 68 FR 54362
Section .0200 Air Pollution Sources
Sect .0201 | Classification of Air Pollution Sources | 04/12/84 | 10/11/85, 50 FR 41501
Sect .0202 | Registration of Air Pollution Sources | 01/15/98 | 11/10/99, 64 FR 61213
Section .0300 Air Pollution Emergencies
Sect .0301 | Purpose | 02/01/76 | 06/03/86, 51 FR 19834
Sect. 0302 | Episode Criteria | 01/15/98 | 11/10/99, 64 FR 61213
Sect .0303 | Emission Reduction Plans | 04/12/84 | 10/11/85, 50 FR 41501
Sect .0304 | Preplanned Abatement Program | 04/14/88 | 12/12/88, 53 FR 49881
Sect .0305 | Emission Reduction Plan—Alert Level | 04/12/84 | 10/11/85, 50 FR 41501
Sect .0306 | Emission Reduction Plan—Warning Level | 04/12/84 | 10/11/85, 50 FR 41501
Sect .0307 | Emission Reduction Plan—Emergency Level | 04/12/84 | 10/11/85, 50 FR 41501
Section .0400 Ambient Air Quality Standards
Sect .0401 | Purpose | 12/01/92 | 08/15/94, 59 FR 41708
Sect .0402 | Sulfur Oxides | 04/12/84 | 10/11/85, 50 FR 41501
Sect .0403 | Total Suspended Particulates | 07/01/88 | 01/16/90, 55 FR 1419
Sect .0404 | Carbon Monoxide | 10/01/89 | 3/12/90, 55 FR 9125
Sect .0405 | Ozone | 05/01/99 | 10/22/02, 67 FR 64989
Sect .0407 | Nitrogen Dioxide | 10/01/89 | 03/12/90, 55 FR 9125
Sect .0408 | Lead | 04/12/84 | 10/11/85, 50 FR 41501
Sect .0409 | Particulate Matter | 07/01/88 | 01/16/90, 55 FR 1419
Sect .0410 | PM2.5 Particulate Matter | 05/01/99 | 10/22/02, 67 FR 64989
Section .0500 Emission Control Standards
Sect .0501 | Compliance with Emission Control Standards | 04/01/01 | 08/08/02, 67 FR 51461
Sect .0502 | Purpose | 03/01/81 | 07/26/82, 47 FR 32118
Sect .0503 | Particulates from Fuel Burning Indirect Heat Exchangers | 05/01/99 | 10/22/02, 67 FR 64989
Sect .0504 | Particulates from Wood Burning Indirect Heat Exchangers | 07/01/02 | 12/27/02, 67 FR 78980
Sect .0505 | Control of Particulates from Incinerators | 07/01/87 | 02/29/88, 53 FR 5974
Sect .0506 | Particulates from Hot Mix Asphalt Plants | 03/20/98 | 11/10/99, 64 FR 61213
Sect .0507 | Particulates from Chemical Fertilizer Manufacturing Plants | 04/01/03 | 09/17/03, 68 FR 54362
Sect .0508 | Particulates from Pulp and Paper Mills | 03/20/98 | 11/10/99, 64 FR 61213
Sect .0509 | Particulates from Mica or Feldspar Processing Plants | 04/01/03 | 09/17/03, 68 FR 54362
Sect .0510 | Particulates from Sand, Gravel, or Crushed Stone Operations | 03/20/98 | 11/10/99, 64 FR 61213
Sect .0511 | Particluates from Lightweight Aggregate | 03/20/98 | 11/10/99, 64 FR 61213
Sect .0512 | Particulates from Wood Products Finishing Plants | 11/01/84 | 12/19/86, 51 FR 45468
Sect .0513 | Particulates from Portland Cement Plants | 03/20/98 | 11/10/99, 64 FR 61213
Sect .0514 | Particulates from Ferrous Jobbing Foundries | 03/20/98 | 11/10/99, 64 FR 61213
Sect .0515 | Particulates from Miscellaneous Industrial Processes | 04/01/03 | 09/17/03, 68 FR 54362
Sect .0516 | Sulfur Dioxide Emissions from Combustion Sources | 04/01/03 | 09/17/03, 68 FR 54362
Sect .0517 | SO2 Emissions from Plants Producing Sulfuric Acid | 11/01/84 | 12/19/86, 51 FR 45468
Sect .0519 | Control of Nitrogen Dioxide and Nitrogen Oxides Emissions | 07/01/96 | 08/01/97, 62 FR 41277
Sect .0520 | Control and Prohibition of Open Burning | 07/01/96 | 08/01/97, 62 FR 41277 | Repealed.
Sect .0521 | Control of Visible Emissions | 03/20/98 | 11/10/99, 64 FR 61213
Sect .0522 | Control and Prohibition of Odorous Emissions | 02/01/76 | 06/03/86, 51 FR 19834
Sect .0523 | Control of Conical Incinerators | 01/01/85 | 09/09/87, 52 FR 33933
Sect .0527 | Emissions from Spodumene Ore Roasting | 11/01/84 | 12/19/86, 51 FR 45468
Sect .0530 | Prevention of Significant Deterioration | 11/21/96 | 10/15/99, 64 FR 55831
Sect .0531 | Sources in Nonattainment Areas | 01/15/98 | 11/10/99, 64 FR 61213
Sect .0532 | Sources Contributing to an Ambient Violation | 07/01/94 | 02/01/96, 61 FR 3584
Sect .0533 | Stack Height | 07/01/94 | 02/01/96, 61 FR 3584
Sect .0535 | Excess Emissions Reporting and Malfunctions | 07/01/96 | 08/01/97, 62 FR 41277
Sect .0536 | Particulate Emissions from Electric Utility Boilers | 08/01/91 | 02/14/96, 61 FR 5689
Sect .0540 | Particulates from Fugitive Non-process Dust Emission Sources | 03/20/98 | 11/10/99, 64 FR 61213
Sect .0542 | Control of Particulate Emissions from Cotton Ginning Operations | 07/01/02 | 12/27/02, 67 FR 78980
Section .0600 Air Contaminants; Monitoring, Reporting
Sect .0601 | Monitoring: Recordkeeping: Reporting | 04/01/99 | 08/08/02, 67 FR 51461
Sect .0602 | Definitions | 04/01/99 | 08/08/02, 67 FR 51461
Sect .0604 | Exceptions to Monitoring and Reporting Requirements | 04/01/99 | 08/08/02, 67 FR 51461
Sect .0605 | General Recordkeeping and Reporting Requirements | 04/01/99 | 08/08/02, 67 FR 51461
Sect .0606 | Other Coal or Residual Oil Burners | 05/02/88 | 12/12/88, 53 FR 49881
Sect .0607 | Large Wood and Wood-Fossil Fuel Combination Units | 04/01/99 | 08/08/02, 67 FR 51461
Sect .0608 | Program Schedule | 07/01/96 | 08/01/97, 62 FR 41277
Sect .0609 | Monitoring Condition in Permit | 04/12/84 | 10/04/85, 50 FR 41501
Sect .0610 | Federal Monitoring Requirements | 04/01/99 | 08/08/02, 67 FR 51461
Sect .0611 | Monitoring Emissions from Other Sources | 04/01/99 | 08/08/02, 67 FR 51461
Sect .0612 | Alternative Monitoring and Reporting Procedures | 04/01/99 | 08/08/02, 67 FR 51461
Sect .0613 | Quality Assurance Program | 04/01/99 | 08/08/02, 67 FR 51461
Sect .0614 | Compliance Assurance Monitoring | 04/01/99 | 08/08/02, 67 FR 51461
Sect .0615 | Delegation | 04/01/99 | 08/08/02, 67 FR 51461
Section .0800 Complex Sources
Sect .0801 | Purpose and Scope | 07/01/94 | 02/01/96, 61 FR 3584
Sect .0802 | Definitions | 07/01/94 | 02/01/96, 61 FR 3584
Sect .0803 | Highway Projects | 07/01/94 | 02/01/96, 61 FR 3584
Sect .0804 | Airport Facilities | 07/01/96 | 08/01/97, 62 FR 41277
Sect .0805 | Parking Facilities | 07/01/96 | 08/01/97, 62 FR 41277
Sect .0806 | Ambient Monitoring and Modeling Analysis | 07/01/94 | 02/01/96, 61 FR 3584
Section .0900 Volatile Organic Compounds
Sect .0901 | Definitions | 07/01/96 | 08/01/97, 62 FR 41277
Sect .0902 | Applicability | 07/01/00 | 08/27/01, 66 FR 34117
Sect .0903 | Recordkeeping: Reporting: Monitoring | 04/01/99 | 08/08/02, 67 FR 51461
Sect .0905 | Petition for Alternative Controls | 11/08/84 | 12/19/86, 51 FR 45468
Sect .0906 | Circumvention | 11/08/84 | 12/19/86, 51 FR 45468
Sect .0907 | Compliance Schedules for Sources in Nonattainment Areas | 11/21/96 | 10/15/99, 64 FR 55831 | Repealed.
Sect .0908 | Equipment Modification Compliance Schedules | 11/08/84 | 12/19/86, 51 FR 45468
Sect .0909 | Compliance Schedules for Sources in New Nonattainment Areas | 07/01/00 | 08/27/01, 66 FR 34117
Sect .0910 | Alternate Compliance Schedules | 11/21/96 | 10/15/99, 64 FR 55831 | Repealed.
Sect .0911 | Exceptions for Compliance Schedules | 11/21/96 | 10/15/99, 64 FR 55831 | Repealed.
Sect .0912 | General Provisions on Test Methods and Procedures | 04/01/03 | 09/17/03, 68 FR 54362
Sect .0913 | Determination of Volatile Content of Surface Coatings | 07/01/88 | 01/16/90, 55 FR 1420
Sect .0914 | Determination of VOC Emission Control System Efficiency | 03/20/98 | 11/10/99, 64 FR 61213
Sect .0915 | Determination of Solvent Metal Cleaning VOC Emissions | 11/08/84 | 12/19/86, 51 FR 45468
Sect .0916 | Determination of VOC Emissions from Bulk Gasoline Terminals | 07/01/88 | 01/16/90, 55 FR 1420
Sect .0917 | Automobile and Light-duty Truck Manufacturing | 07/01/96 | 08/01/97, 62 FR 41277
Sect .0918 | Can Coating | 07/01/96 | 08/01/97, 62 FR 41277
Sect .0919 | Coil Coating | 07/01/96 | 08/01/97, 62 FR 41277
Sect .0920 | Paper Coating | 07/01/96 | 08/01/97, 62 FR 41277
Sect .0921 | Fabric and Vinyl Coating | 07/01/96 | 08/01/97, 62 FR 41277
Sect .0922 | Metal Furniture Coating | 07/01/96 | 08/01/97, 62 FR 41277
Sect .0923 | Surface Coating of Large Appliances | 07/01/96 | 08/01/97, 62 FR 41277
Sect .0924 | Magnet Wire Coating | 07/01/96 | 08/01/97, 62 FR 41277
Sect .0925 | Petroleum Liquid Storage | 12/01/89 | 06/23/94, 59 FR 32362
Sect .0926 | Bulk Gasoline Plants | 07/01/96 | 08/01/97, 62 FR 41277
Sect .0927 | Bulk Gasoline Terminals | 04/01/03 | 09/17/03, 68 FR 54362
Sect .0928 | Gasoline Service Stations Stage I | 07/01/96 | 08/01/97, 62 FR 41277
Sect .0930 | Solvent Metal Cleaning | 03/01/91 | 06/23/94, 59 FR 32362
Sect .0931 | Cutback Asphalt | 12/01/89 | 06/23/94, 59 FR 32362
Sect .0932 | Gasoline Truck Tanks and Vapor Collection Systems | 04/01/03 | 09/17/03, 68 FR 54362
Sect .0933 | Petroleum Liquid Storage in External Floating Roof Tanks | 07/01/95 | 02/01/96, 62 FR 3589
Sect .0934 | Coating of Miscellaneous Metal Parts and Products | 07/01/96 | 08/01/97, 62 FR 41277
Sect .0935 | Factory Surface Coating of Flat Wood Paneling | 07/01/96 | 08/01/97, 62 FR 41277
Sect .0936 | Graphic Arts | 12/01/89 | 06/23/94, 59 FR 32362
Sect .0937 | Manufacture of Pneumatic Rubber Tires | 07/01/96 | 08/01/97, 62 FR 41277
Sect .0938 | Perchloroethylene Dry Cleaning System | 03/20/98 | 11/10/99, 64 FR 61213 | Repealed.
Sect .0939 | Determination of Volatile Organic Compounds Emissions | 07/01/88 | 01/16/90, 55 FR 1420
Sect .0940 | Determination of Leak Tightness and Vapor Leaks | 07/01/88 | 01/16/90, 55 FR 1420
Sect .0941 | Alternative Method for Leak Tightness | 03/01/91 | 06/23/94, 59 FR 32362
Sect .0942 | Determination of Solvent in Filter Waste | 07/23/80 | 08/27/81, 46 FR 43137
Sect .0943 | Synthetic Organic Chemical and Polymer Manufacturing | 03/01/91 | 06/23/94, 59 FR 32362
Sect .0944 | Manufacture of Polyethylene, Polypropylene, and Polystyrene | 03/14/85 | 11/19/86, 51 FR 41786
Sect .0945 | Petroleum Dry Cleaning | 03/14/85 | 11/19/86, 51 FR 41786
Sect .0947 | Manufacture of Synthesized Pharmaceutical Products | 07/01/94 | 05/05/95, 60 FR 22284
Sect .0948 | VOC Emissions from Transfer Operations | 07/01/00 | 08/27/01, 66 FR 34117
Sect .0949 | Storage of Miscellaneous Volatile Organic Compounds | 07/01/00 | 08/27/01, 66 FR 34117
Sect .0951 | Miscellaneous Volatile Organic Compound Emissions | 07/01/00 | 08/27/01, 66 FR 34117
Sect .0952 | Petition for Alternative Controls for RACT | 05/01/95 | 02/01/96, 62 FR 3589
Sect .0953 | Vapor Return Piping for Stage II Vapor Recovery | 03/20/98 | 11/10/99, 64 FR 61213
Sect .0954 | Stage II Vapor Recovery | 04/01/03 | 09/17/03, 68 FR 54362
Sect .0955 | Thread Bonding Manufacturing | 04/01/95 | 02/01/96, 62 FR 3589
Sect .0956 | Glass Christmas Ornament Manufacturing | 04/01/95 | 02/01/96, 62 FR 3589
Sect .0957 | Commercial Bakeries | 04/01/95 | 02/01/96, 62 FR 3589
Sect .0958 | Work Practices for Sources of Volatile Organic Compounds | 07/01/00 | 08/27/01, 66 FR 34117
Sect .0959 | Reserved
Section .1000 Motor Vehicle Emissions Control Standards
Sect .1001 | Purpose | 07/01/02 | 10/30/02, 67 FR 66056
Sect .1002 | Applicability | 07/01/02 | 10/30/02, 67 FR 66056
Sect .1003 | Definitions | 12/01/82 | 06/02/95, 60 FR 28726
Sect .1004 | Emissions Standards | 07/01/02 | 10/30/02, 67 FR 66056
Sect .1005 | Measurement and Enforcement | 07/01/02 | 10/30/02, 67 FR 66056
Section .1300 Oxygenated Gasoline Standard
Sect .1301 | Purpose | 09/01/92 | 06/30/94, 59 FR 33683
Sect .1302 | Applicability | 09/01/92 | 06/30/94, 59 FR 33683
Sect .1303 | Definitions | 09/01/92 | 06/30/94, 59 FR 33683
Sect .1304 | Oxygen Content Standard | 09/01/92 | 06/30/94, 59 FR 33683
Sect .1305 | Measurement and Enforcement | 09/01/92 | 06/30/94, 59 FR 33683
Section .1400 Nitrogen Oxides Emissions
Sect .1401 | Definitions | 07/15/02 | 12/27/02, 67 FR 78987
Sect .1402 | Applicability | 07/15/02 | 12/27/02, 67 FR 78987
Sect .1403 | Compliance Schedules | 07/15/02 | 12/27/02, 67 FR 78987
Sect .1404 | Recordkeeping: Reporting: Monitoring | 07/15/02 | 12/27/02, 67 FR 78987
Sect .1409 | Stationary Internal Combustion Engines | 07/15/02 | 12/27/02, 67 FR 78987
Sect .1416 | Emission Allocations for Utility Companies | 07/15/02 | 12/27/02, 67 FR 78987
Sect .1417 | Emission Allocations for Large Combustion Sources | 07/15/02 | 12/27/02, 67 FR 78987
Sect .1418 | New Electric Generating Units, Large Boilers, and Large I/C Engines | 07/15/02 | 12/27/02, 67 FR 78987
Sect .1419 | Nitrogen Oxide Budget Trading Program | 07/15/02 | 12/27/02, 67 FR 78987
Sect .1420 | Periodic Review and Reallocations | 07/15/02 | 12/27/02, 67 FR 78987
Sect .1421 | Allocations for New Growth of Major Point Sources | 07/15/02 | 12/27/02, 67 FR 78987
Sect .1422 | Compliance Supplement Pool and Early Emission Reduction Credits | 07/15/02 | 12/27/02, 67 FR 78987
Sect .1423 | Large Internal Combustion Engines | 07/15/02 | 12/27/02, 67 FR 78987
Section .1900 Open Burning
Sect .1901 | Purpose, Scope, and Impermissible Open Burning | 07/01/96 | 08/01/97, 62 FR 41277
Sect .1902 | Definitions | 01/15/98 | 11/10/99, 64 FR 61213
Sect .1903 | Permissible Open Burning Without a Permit | 01/15/98 | 11/10/99, 64 FR 61213
Sect .1904 | Air Curtain Burners | 07/01/96 | 08/01/97, 62 FR 41277
Section .2000 Transportation Conformity
Sect .2001 | Purpose, Scope and Applicability | 04/01/99 | 12/27/02, 67 FR 78983
Sect .2002 | Definitions | 04/01/99 | 12/27/02, 67 FR 78983
Sect .2003 | Transportation Conformity Determination | 04/01/99 | 12/27/02, 67 FR 78983 | Except for the incorporation by reference of 40 CFR 93.104(e) of the Transportation Conformity Rule.
Sect .2004 | Determining Transportation Related Emissions | 04/01/99 | 12/27/02, 67 FR 78983
Sect .2005 | Memorandum of Agreement | 04/01/99 | 12/27/02, 67 FR 78983
Subchapter 2Q Air Quality Permits
Section .0100 General Provisions
Sect .0101 | Required Air Quality Permits | 03/20/98 | 11/10/99, 64 FR 61213
Sect .0102 | Activities Exempted from Permit Requirements | 07/01/02 | 12/27/02, 67 FR 78980
Sect .0103 | Definitions | 05/01/99 | 10/22/02, 67 FR 64989
Sect .0104 | Where to Obtain and File Permit Applications | 07/01/02 | 12/27/02, 67 FR 78980
Sect .0105 | Copies of Referenced Documents | 08/15/94 | 02/01/96, 61 FR 3584
Sect .0106 | Incorporation by Reference | 08/15/94 | 02/01/96, 61 FR 3584
Sect .0107 | Confidential Information | 05/01/99 | 10/22/02, 67 FR 64989
Sect .0108 | Delegation of Authority | 03/15/98 | 11/10/99, 64 FR 61213
Sect .0109 | Compliance Schedule for Previously Exempted Activities | 04/01/01 | 08/08/02, 67 FR 51461
Sect .0110 | Retention of Permit at Permitted Facility | 08/15/94 | 02/01/96, 61 FR 3584
Sect .0111 | Applicability Determinations | 08/15/94 | 02/01/96, 61 FR 3584
Section .0200 Permit Fees
Sect .0207 | Annual Emissions Reporting | 01/15/98 | 11/10/99, 64 FR 61213
Section .0300 Construction and Operating Permits
Sect .0301 | Applicability | 07/01/94 | 07/28/95, 60 FR 38710
Sect .0303 | Definitions | 07/01/94 | 07/28/95, 60 FR 38710
Sect .0304 | Applications | 07/01/99 | 10/22/02, 67 FR 64989
Sect .0305 | Application Submittal Content | 07/01/94 | 07/28/95, 60 FR 38710
Sect .0306 | Permits Requiring Public Participation | 07/01/99 | 10/22/02, 67 FR 64989
Sect .0307 | Public Participation Procedures | 01/15/98 | 11/10/99, 64 FR 61213
Sect .0308 | Final Action on Permit Applications | 07/01/94 | 07/28/95, 60 FR 38710
Sect .0309 | Termination, Modification and Revocation of Permits | 07/01/99 | 10/22/02, 67 FR 64989
Sect .0310 | Permitting of Numerous Similar Facilities | 07/01/94 | 07/28/95, 60 FR 38710
Sect .0311 | Permitting of Facilities at Multiple Temporary Sites | 07/01/96 | 08/01/97, 62 FR 41277
Sect .0312 | Application Processing Schedule | 03/20/98 | 11/10/99, 64 FR 61213
Sect .0313 | Expedited Application Processing Schedule | 04/17/97 | 11/10/99, 64 FR 61213
Sect .0314 | General Permitting Requirements | 07/01/99 | 10/22/02, 67 FR 64989
Sect .0315 | Synthetic Minor Facilities | 07/01/99 | 10/22/02, 67 FR 64989
Sect .0316 | Administrative Permit Amendments | 04/01/01 | 08/08/02, 67 FR 51461
Sect .0317 | Avoidance Conditions | 04/01/01 | 08/08/02, 67 FR 51461
Section .0600 Transportation Facility Procedures
Sect .0601 | Purpose of Section and Requirements for Permit | 07/01/94 | 02/01/96, 61 FR 3584
Sect .0602 | Definitions | 07/01/94 | 02/01/96, 61 FR 3584
Sect .0603 | Applications | 07/28/97 | 12/31/98, 63 FR 72193
Sect .0604 | Public Participation | 07/01/94 | 02/01/96, 61 FR 3584
Sect .0605 | Final Action on Permit Applications | 07/01/94 | 02/01/96, 61 FR 3584
Sect .0606 | Termination, Modification and Revocation of Permits | 07/01/94 | 02/01/96, 61 FR 3584
Sect .0607 | Application Processing Schedule | 04/17/97 | 11/10/99, 64 FR 61213
Section .0800 Exclusionary Rules
Sect .0801 | Purpose and Scope | 05/01/99 | 10/22/02, 67 FR 64989
Sect .0802 | Gasoline Servicing Stations and Dispensing Facilities | 08/01/95 | 09/20/96, 61 FR 49413
Sect .0803 | Coating, Solvent Cleaning, Graphic Arts Operations | 05/01/99 | 10/22/02, 67 FR 64989
Sect .0804 | Dry Cleaning Facilities | 08/01/95 | 09/20/96, 61 FR 49414
Sect .0805 | Grain Elevators | 04/01/01 | 08/08/02, 67 FR 51461
Sect .0806 | Cotton Gins | 04/01/02 | 08/08/02, 67 FR 51461
Sect .0807 | Emergency Generators | 04/01/02 | 08/08/02, 67 FR 51461
Sect .0808 | Peak Shaving Generators | 07/01/99 | 10/22/02, 67 FR 64989

* * * * *

[FR Doc. 05-3062 Filed 2-17-05; 8:45 am]

BILLING CODE 6560-50-P